DEPARTMENT OF HOMELAND SECURITY

Coast Guard

[Docket No. USCG-2013-0049]

Eastern Great Lakes Area Maritime Security Committee; Vacancies

AGENCY: Coast Guard, DHS.

ACTION: Solicitation for membership.

SUMMARY: This notice solicits applications for membership in the Area Maritime Security Committee, Eastern Great Lakes, and its five regional subcommittees: Northeast Ohio Region, Northwestern Pennsylvania Region, Western New York Region, Lake Ontario Region, and St. Lawrence Region.

DATES: Requests for membership should reach the U.S. Coast Guard Captain of the Port, Buffalo, on March 21, 2013.

ADDRESSES: Applications for membership should be submitted to the Captain of the Port Buffalo, Attention Regional Executive Coordinator, 1 Fuhrmann Boulevard, Buffalo, NY 14203-3189.

FOR FURTHER INFORMATION CONTACT: For questions about submitting an application, or about the Area Maritime Security Committee (AMSC) in general, contact Mr. Timothy Balunis, Planning Department, U.S. Coast Guard Sector Buffalo, 1 Fuhrmann Boulevard, Buffalo, NY 14203-3189; 716-843-9559. For questions about a particular regional subcommittee contact: the Northeast Ohio Region Executive Coordinator, Mr. Peter Killmer, at 216-937-0136; the Northwestern Pennsylvania Region Executive Coordinator, Mr. Joseph Fetscher, at 216-937-0126; the Western New York Region Executive Coordinator, Mr. Timothy Balunis, at 716-843-9559; the Lake Ontario Region Executive Coordinator, Mr. Ralph Kring, at 315-343-1217; and the St Lawrence Region Executive Coordinator, Mr. Ralph Kring, at 315-343-1217.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees (AMSCs) for any port area of the United States. (See 33 U.S.C. 1226; 46 U.S.C. 70112; 33 CFR 1.05-1, 6.01; Department of Homeland Security Delegation No. 0170.1(97)). The MTSA includes a provision exempting these AMSCs from the Federal Advisory Committee Act (FACA), Public Law 92-436, 86 Stat. 470 (5 U.S.C. App.2).

AMSC, Eastern Great Lakes Purpose

The AMSCs shall assist the Captain of the Port in the development, review, update, and exercising of the Area Maritime Security (AMS) Plan for their area of responsibility. Such matters may include, but are not limited to: identifying critical port infrastructure and operations; identifying risks (threats, vulnerabilities, and consequences); determining mitigation strategies and implementation methods; developing and describing the process to continually evaluate overall port security by considering consequences and vulnerabilities, how they may change over time, and what additional mitigation strategies can be applied; and providing advice to, and assisting the Captain of the Port in developing and maintaining the AMS Plan.

AMSC Composition

The composition of an AMSC, including the AMSC, Eastern Great Lakes and its subcommittees, is controlled by 33 CFR 103.305. Accordingly, members may be selected from the Federal, Territorial, or Tribal government; the State government and political subdivisions of the State; local public safety, crisis management, and emergency response agencies; law enforcement and security organizations; maritime industry, including labor; other port stakeholders having a special competence in maritime security; and port stakeholders affected by security practices and policies. Also, members of the AMSC must have at least 5 years of experience related to maritime or port security operations.

AMSC, Eastern Great Lakes Vacancies

Currently, there are multiple vacancies on the AMSC, Eastern Great Lakes. Vacancies for each of the five regional subcommittees are as follows:

(1) Northeast Ohio Region (3 members): Executive Board member to serve as Chairperson of the regional subcommittee and concurrently as member of the AMSC, Eastern Great Lakes when so convened by the Federal Maritime Security Coordinator (FMSC); Executive Board member representing local MTSA-regulated (33 CFR Part 105) facilities of Northeast Ohio; and an Executive Board member representing the maritime (on-water) port harbormaster community of Northeast Ohio (e.g., qualified harbormasters operating in local ports of Vermilion, Lorain, Cleveland, Fairport Harbor, Ashtabula, Conneaut, and other local ports);

(2) Northwestern Pennsylvania Region: no openings;

(3) Western New York Region (1 member): Executive Board member representing local MTSA-regulated (33 CFR Part 104) vessels of Western New York;

(4) Lake Ontario Region: no openings; and

(5) St. Lawrence Region (2 members): Executive Board members to serve as Chairperson and Vice Chairperson of the regional subcommittee, and concurrently as members of the AMSC, Eastern Great Lakes when so convened by the FMSC.

Applying for AMSC Membership

Those seeking membership are not required to submit formal applications. Because we have an obligation to ensure that a specific number of members have the requisite maritime security experience, however, we encourage the submission of resumes that highlight experience in the maritime and security industries.

Applicants may be required to pass an appropriate security background check before appointment to the committee or one of its subcommittees. The term of office for each vacancy is 5 years. However, a member may serve one additional term of office. Members will not receive any salary or other compensation for their service on the AMSC. Applicants must register and remain active as Coast Guard HOMEPORT users if appointed.

In support of the policy of the Coast Guard on gender and ethnic nondiscrimination, we encourage qualified men and women and members of all racial and ethnic groups to apply. The Coast Guard values diversity; all the different characteristics and attributes of persons that enhance the mission of the Coast Guard.

Dated: January 29, 2013.
J.S. Imahori,
Commander, U.S. Coast Guard, Acting Captain of the Port, Buffalo.

[FR Doc. 2013-03696 Filed 2-15-13; 8:45 am]

BILLING CODE 9110-04-P